DEPARTMENT OF TRANSPORTATION

Federal Highway Administration

Notice of Final Federal Agency Actions on Proposed Highway in Washington

AGENCY: Federal Highway Administration (FHWA), DOT.

ACTION: Notice of limitation on claims for judicial review of actions of FHWA.

SUMMARY: This notice announces actions taken by the FHWA and other Federal agencies that are found within the meaning of 23 U.S.C. 139[L](1). These actions relate to a proposed highway project, State Route (SR) 520, Interstate 5 (I-5) to Medina: Bridge Replacement and HOV project in King County, Washington. These actions grant approval of the project.

DATES: By this notice, the FHWA is advising the public of final agency actions subject to 23 U.S.C. 139[l](1). A claim seeking judicial review of the Federal agency actions on the highway project will be barred unless the claim is filed on or before March 5, 2012. If the Federal law that authorizes judicial review of a claim provides a time period of less than 180 days for filing such claim, then that shorter time period still applies.

FOR FURTHER INFORMATION CONTACT: Randolph Everett, Major Projects Oversight Manager, Federal Highway Administration, Jackson Federal Building, 915 2nd Avenue, Room 3142, Seattle, Washington 98174; Telephone 206-202-7538; and e-mail randolph.everett@fhwa.gov. Regular office hours for the FHWA Washington Division Oversight Manager are between 8 a.m. and 4:30 p.m. (Pacific Standard Time). You may also contact Allison Hanson, Director of Environmental Services—Mega Projects, SR 520 Bridge Replacement and HOV Program Office, 600 Stewart Street, Suite 520, Seattle, Washington 98101; telephone: 206-805-2880; and e-mail; hansona@wsdot.wa.gov. The SR 520 Program regular office hours are between 8 a.m. and 5 p.m. (Pacific Standard Time).

SUPPLEMENTARY INFORMATION: Notice is hereby given that the FHWA has taken final agency actions by issuing approval for the following highway project: the SR 520, I-5 to Medina: Bridge Replacement and HOV Project. The project proposes to improve safety and mobility for people and goods across Lake Washington by replacing the SR 520 Portage Bay and Evergreen Point bridges and improve existing roadway between Interstate 5 (I-5) in Seattle and Evergreen Point Road in Medina spanning 5.2 miles. The Selected Alternative for the I-5 to Medina corridor will add continuous HOV lanes and include landscaped lids over SR 520 to reconnect neighborhoods that are currently separated by the highway. The FHWA project numbers are BR-520(49) and BR-520(50).

The actions by the FHWA on this project, and the laws under which such actions were taken, are described in the August 2006 Draft Environmental Impact Statement (EIS), January 2010 Supplemental Draft EIS, the June 2011 Final EIS, and the July 2011 Record of Decision (ROD), and in other documents in the FHWA administrative record for the project. The Draft EIS, the Supplemental Draft EIS, the Final EIS, the ROD, and other documents supporting the decision are available by contacting the FHWA or the Washington State Department of Transportation at the addresses provided above.

The Draft EIS, the Supplemental Draft EIS, the Final EIS, and the ROD can be viewed and downloaded from the project Web site at http://www.wsdot.wa.gov/Projects/SR520Bridge/EIS.htm or viewed at local libraries within the project area.

This notice applies to all Federal agency decisions on the project as of the issuance date of this notice and all laws under which such actions were taken, including but not limited to:

1. General: National Environmental Policy Act (NEPA) [42 U.S.C. 4321-4347]; Federal-Aid Highway Act [23 U.S.C. 109].

2. Air: Clean Air Act, as amended [42 U.S.C. 7401-7671(q)].

3. Land: Section 6(f) of the Land and Water Conservation Fund Act of 1965 [16 U.S.C 4601]; Section 4(f) of the Department of Transportation Act of 1966 [49 U.S.C. 303].

4. Wildlife: Endangered Species Act [16 U.S.C. 1531-1544]; Section 7 of the Endangered Species Act [16 U.S.C. 1536]; Anadromous Fish Conservation Act [16 U.S.C. 757(a-757(g)); Fish and Wildlife Coordination Act [16 U.S.C. 661-667(d)]; Magnuson-Stevens Fishery Conservation and Management Act of 1976, as amended [16 U.S.C. 1801 et seq.].

5. Historic and Cultural Resources: Section 106 of the National Historic Preservation Act of 1966, as amended [16 U.S.C. 470(f) et seq.]; Archaeological and Historic Preservation Act [16 U.S.C. 469-469(c)].

6. Wetlands and Water Resources: Section 7 of the Endangered Species Act [16 U.S.C. 1536]; Clean Water Act, (Section 319 [33 U.S.C. 329]); Safe Drinking Water Act [42 U.S.C. 300(f)-300(j)(6)];].

7. Navigation: Rivers and Harbors Act of 1899 [33 U.S.C. 403]; General Bridge Act of 1946 [33 U.S.C. 9 and 11].

8. Executive Orders: E.O. 11990 Protection of Wetlands. 11988 Floodplain Management; E.O. 12898 Federal Actions to Address Environmental Justice in Minority Populations and Low Income Populations; E.O. 11953 Protection and Enhancement of Cultural Resources; E.O. 13007 Indian Sacred Sites; E.O. 13287 Preserve America; E.O. 13175 Consultation and Coordination with Indian Tribal Governments; E.O. 11514 Protection and Enhancement of Environmental Quality; E.O. 13112 Invasive Species.

(Catalog of Federal Domestic Assistance Program Number 20.205, Highway Planning and Construction. The regulations implementing Executive Order 12372 regarding intergovernmental consultation on Federal programs and activities apply to this program.)

Authority: 23 U.S.C. 139(l)(1).

Issued on: August 30, 2011.
Daniel M. Mathis,
Division Administrator. Olympia, Washington.

[FR Doc. 2011-22742 Filed 9-6-11; 8:45 am]

BILLING CODE 4910-22-P